DEPARTMENT OF JUSTICE

[AAG/A Order No. 258-2002]

Privacy Act of 1974; System of Records

Pursuant to the Privacy Act of 1974 (5 U.S.C. 552a), notice is given that the Federal Bureau of Prisons (Bureau) proposes to modify its system of records entitled “Inmate Commissary Accounts Record System, JUSTICE/BOP-006”, last published on September 30, 1977 (42 FR 53288, 53294). JUSTICE/BOP-006 has been retitled the “Inmate Trust Fund Accounts and Commissary Record System” and will become effective 60 days from the date of publication.

The new title reflects the addition of information on vendors who provide supplies to institution commissaries.

In addition to edits which have been made to better describe the system and/or improve its clarity, the Bureau proposes to modify the system as follows:

(1) By further expanding the categories of individuals covered by the system to include all individuals placed directly under the custody of the Director of the Bureau and persons who send and/or receive funds to/from inmates.

(2) By providing additional authorities for the maintenance of the expanded categories of records.

(3) By expanding the categories of records in the system to include system-generated reports.

(4) By adding a statement on the purpose of this system.

(5) By reorganizing the routine use section to group similar routine uses together, to re-designate certain routine uses, to better describe, clarify or expand certain routine uses, and to add new routine uses.

(6) By expanding the policies and practices for storage, retrieval, access, retention and disposal of records in the system to reflect technological advances and new agency practices.

(7) By redesignating the system manager from the Chief of Management and Information Systems to the Chief of the Trust Fund Branch in the Administration Division.

(8) By adding exemptions from (e)(1) and (e)(5) of the Privacy Act for law enforcement purposes.

Title 5 U.S.C. 552a (e)(4) and (11) provide that the public be provided a 30 day period in which to comment. The Office of Management and Budget (OMB), which has oversight responsibilities under the Privacy Act, requires that it be given a 40-day period in which to review the system. Therefore, please submit any comments by April 15, 2002. The public, OMB, and the Congress are invited to send written comments to Mary Cahill, Management and Planning Staff, Justice Management Division, Department of Justice, Washington, DC 20530 (1400 National Place Building).

In accordance with 5 U.S.C. 552a(r), the Department has provided a report to OMB and the Congress on the proposed modification. A description of the modified system is provided below.

Dated: February 28, 2002.
Robert F. Diegelman,
Acting Assistant Attorney General for Administration.

Justice/BOP-006

System Name:

Inmate Trust Fund Accounts and Commissary Record System.

System Location:

Records may be retained at the Central Office, Regional Offices, or at any of the Federal Bureau of Prisons (Bureau) facilities, or at any location operated by a contractor authorized to provide computer, financial and/or correctional services to the Bureau. A list of Bureau facilities may be found at 28 CFR part 503 and on the Internet at http://www.bop.gov.

Categories of Individuals Covered by the System:

Individuals currently or formerly under the custody of the Attorney General and/or the Director of the Bureau of Prisons, vendors who supply products to institution commissaries, and persons who send or receive funds to/from inmates.

Categories of Records in the System:

Records in this system include: (1) Financial data on individuals currently or formerly under custody; (2) personal identification data for individuals covered by this system; (3) vendor lists and linked product information; and (4) system generated reports, such as Inmate Balance Reports, Transaction Input Listings, Inmate Sales Receipts, and Stock Status Reports.

Authority for Maintenance of the System:

This system is established and maintained under authority of 18 U.S.C. 3621, 4042, and 5003, and 31 U.S.C. 1321.

Purpose(s):

The purpose of this system is to track trust fund accounts of current and former inmates, including all payments in and out of these accounts, to provide accounting of inmate trust fund balances for purposes of verifying pauper status under 28 U.S.C. 1915, and to maintain information on all vendors who supply products to institution commissaries to facilitate ordering of commissary products.

Routine Uses of Records Maintained in the System, Including Categories of Users and the Purposes of Such Uses:

Relevant data from this system will be disclosed as follows:

(a) To officers and employees of the Department of Justice who have a need for the information in the performance of their official duties;

(b) To federal, state, local, tribal, foreign and international law enforcement agencies and officials for law enforcement purposes such as investigations, possible criminal prosecutions, civil court actions, or regulatory proceedings;

(c) To a court or adjudicative body before which the Department of Justice or the Bureau is authorized to appear for purposes of verifying pauper status under 28 U.S.C. 1915, or when any of the following is a party to litigation or has an interest in litigation and such records are determined by the Bureau to be arguably relevant to the litigation: (1) The Bureau, or any subdivision thereof, or (2) any Department or Bureau employee in his or her official capacity, or (3) any Department or Bureau employee in his or her individual capacity where the Department has agreed to provide representation for the employee, or (4) the United States, where the Bureau determines that the litigation is likely to affect it or any of its subdivisions;

(d) In an appropriate proceeding before a court or administrative or regulatory body when records are determined by the Department of Justice to be arguably relevant to the proceeding, including federal, state, and local licensing agencies or associations which require information concerning the suitability or eligibility of an individual for a license or permit;

(e) To the news media and the public pursuant to 28 CFR 50.2 unless it is determined that release of the specific information in the context of a particular case would constitute an unwarranted invasion of personal privacy;

(f) To a Member of Congress or staff acting upon the Member's behalf when the Member or staff requests the information on behalf of and at the request of the individual who is the subject of the record;

(g) To the National Archives and Records Administration and General Services Administration in records management inspections conducted under the authority of 44 U.S.C. 2904 and 2906;

(h) To any person or entity to the extent necessary to prevent immediate loss of life or serious bodily injury;

(i) To contractors, grantees, experts, consultants, students, and others performing or working on a contract, service, grant, cooperative agreement, or other assignment for the federal government, when necessary to accomplish an agency function related to this system of records; and

(j) Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Information maintained in the system is stored in electronic media, including the Federal Prison Point of Sale (FPPOS) System, in Bureau and contractor facilities via a configuration of personal computer, client/server, and mainframe systems architecture. Computerized records are maintained on hard disk, floppy diskettes, Compact Discs (CDs), magnetic tapes and/or optical disks. Documentary records are maintained in manual file folders and/or index card files.

Retrievability:

Records are retrievable by identifying data of the persons covered by the system, including name and address, inmate register number, and/or system-generated vendor number.

Safeguards:

Information is safeguarded in accordance with Bureau rules and policy governing automated information systems security and access. These safeguards include the maintenance of records and technical equipment in restricted areas, and the required use of proper passwords and user identification codes to access the system. Only those Bureau and contractor personnel who require access to perform their official duties may access the system equipment and the information in the system.

Retention and Disposal:

Inmate financial data in the system of records is retained for six years from the date of transaction, and system-generated reports are retained for as long as they are needed. Computerized records are destroyed by degaussing; documentary records are destroyed by shredding.

System Manager(s) and Address:

Chief, Trust Fund Branch, Administration Division, Federal Bureau of Prisons, 320 First Street NW., Room 5005, Washington, DC 20534.

Notification Procedure:

Inquiries concerning this system should be directed to the System Manager listed above.

Record Access Procedures:

All requests for records may be made in writing to the Director, Federal Bureau of Prisons, 320 First Street NW., Washington, DC 20534, and should be clearly marked “Privacy Act Request.” This system is exempt, under 5 U.S.C. 552a (j) from some access. To the extent that this system of records is not subject to exemption, it is subject to access and contest. A determination as to exemption shall be made at the time a request for access is received.

Contesting Record Procedures:

Same as above.

Record Source Categories:

Records are generated by individuals currently or formerly under custody, persons sending or receiving funds to/from inmates, vendors supplying products to institution commissaries, Department of Justice and contractor employees.

Systems Exempted from Certain Provisions of the Act:

The Attorney General has exempted this system from subsections (c)(3) and (4), (d), (e)(1), (e)(2), (e)(3), (e)(4)(H), (e)(5), (e)(8), (f) and (g) of the Privacy Act pursuant to 5 U.S.C. 552a(j). Rules have been promulgated in accordance with the requirements of 5 U.S.C. 553(b), (c) and (e).

[FR Doc. 02-6203 Filed 3-14-02; 8:45 am]

BILLING CODE 4410-02-P